DEPARTMENT OF THE INTERIOR

Bureau of Reclamation

Potholes Reservoir Resource Management Plan

AGENCY: Bureau of Reclamation, Interior.

ACTION: Notice of availability of the Record of Decision for the Potholes Reservoir Resource Management Plan, Grant County, Washington.

SUMMARY: Pursuant to section 102(2)(C) of the National Environmental Policy Act of 1969, as amended, the Department of the Interior, Bureau of Reclamation (Reclamation), has prepared a Record of Decision identifying the alternative to be implemented for the Potholes Reservoir Resource Management Plan. This project is the subject of the Final Environmental Impact Statement (FEIS), INT-FES-01-40, Federal Register Notice of Availability, dated December 12, 2001 (66 FR 64272, Dec. 12, 2001). Reclamation's decision is to implement the Preferred Alternative (Alternative B) and associated environmental commitments (mitigation measures) as described in the FEIS. Implementing this alternative will support the recreational interests of visitors to the area while protecting the natural and cultural environment.

ADDRESSES: Copies of the ROD are available for public inspection and review at the following locations:

• Bureau of Reclamation, U.S. Department of the Interior, Room 7455, 18th and C Streets NW., Washington, DC 20240.

• Bureau of Reclamation, Pacific Northwest Regional Office, 1150 North Curtis Road, Suite 100, Boise, ID 83706-1234.

• Bureau of Reclamation, Upper Columbia Area Office, 1917 Marsh Road, Yakima, WA 98901.

• Bureau of Reclamation, Ephrata Field Office, 32 C Street, Ephrata, WA 98823.

FOR FURTHER INFORMATION CONTACT: Mr. Jim Blanchard at (509) 754-0239, extension 226. Those wishing to obtain a copy of the ROD in the form of a printed document may contact Mr. Blanchard.

Dated: January 19, 2002.
J. William McDonald,
Regional Director, Pacific Northwest Region.

[FR Doc. 02-4691 Filed 2-27-02; 8:45 am]

BILLING CODE 4310-MN-P